DEPARTMENT OF JUSTICE

Antitrust Division

Notice Pursuant to the National Cooperative Research and Production Act of 1993—National Armaments Consortium

Notice is hereby given that, on October 12, 2021, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically Aegis Systems Inc., New York, NY; Applied Energy Tech Corp (AETC), Burton, TX; ARCHEM, LLC, SHREVEPORT, LA; BlackSky Geospatial Solutions, Inc, Herndon, VA; Bowhead Avionics Manufacturing, LLC, Plano, TX; Breault Research Organization, Tucson, AZ; DAGER Technology, LLC, Fairfax, VA; FGC Plasma Solutions LLC, Weston, FL; Genesis Consulting Solutions LLC, Waldorf, MD; Hanley Industries, Inc., Alton, IL; JAAW Group LLC, The, Cottonwood Heights, UT; Johns Hopkins University Whiting School of Engineering, Baltimore, MD; L&C PROTEC, INC., DBA COCOON, INC., North Hampton, NH; Leading Technology Composites, Wichita, KS; Marine Electric Systems, Inc., South Hackensack, NJ; Next Offset Solutions, Inc., West Lafayette, IN; Oklahoma State University, Stillwater, OK; Onyx Aerospace, Inc., Huntsville, AL; Palomar Display Products, Inc, Carlsbad, CA; Perikin Enterprise LLC, Albuquerque, NM; PRIME Test and Technical Services LLC, Huntsville, AL; Prudent American Technologies, Inc., Lexington, KY; Resource Management Concepts, Inc, Lexington Park, MD; The Boeing Company—AZ, Mesa, AZ; Trillium Engineering LLC, Hood River, OR; Triton Systems, Inc., Chelmsford, MA; Troika Solutions, LLC, Reston, VA; United States Bomb Technician Association, Englewood, CO; University of Alabama at Birmingham, Birmingham, AL; Werco Manufacturing, Inc., Broken Arrow, OK; Williams International Co., LLC, Pontiac, MI have been added as parties to this venture. Aegis Systems, Inc., New York, NY; Agile Defense, Inc, Reston, VA; BAE Systems IAP Research, Inc., Dayton, OH; Barber-Nichols Inc., Arvada, CO; CoorsTek, Inc., Golden, CO; Fibertek, Inc., Herndon, VA; G2 Ops, Inc., Virginia Beach, VA; Government Energy Solutions, Inc., Huntsville, AL; Hardwire LLC, Pocomoke City, MD; iXblue Defense Systems, Inc., Lincoln, RI; Major Tool and Machine Inc., Indianapolis, IN; Mid-Continent Instrument Co., Inc., Wichita, KS; optX imaging systems LLC, Lorton, VA; OSS Suppressors LLC, Murray, UT; SciTech Services, Inc., Havre de Grace, MD; Steelhead Composites LLC, Golden, CO; Terma North America, Inc., Warner Robins, GA; The Intelligence & Security Academy LLC (ISA), Arlington, VA; Tiburon Associates, Inc., Grand Rapids, MI; Wyle Laboratories, Inc., Huntsville, AL; Zmicro, San Diego, CA have withdrawn as parties to this venture. No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on July 14, 2021. A notice was published in the Federal Register pursuant to Section 6(b) of the Act on August 23, 2021 (86 FR 47154.)

Suzanne Morris,
Chief, Premerger and Division Statistics, Antitrust Division.

[FR Doc. 2021-25709 Filed 11-24-21; 8:45 am]

BILLING CODE P